DEPARTMENT OF TRANSPORTATION

Federal Aviation Administration

Agency Information Collection Activities: Request for Comments; Revision of an Existing Information Collection: Medical Standards and Certification

AGENCY: Federal Aviation Administration (FAA), DOT.

ACTION: Notice and request for comments.

SUMMARY: In accordance with the Paperwork Reduction Act of 1995 and Office of Management and Budget (OMB) regulations, the FAA invites public comments about our intention to request OMB approval to revise an existing information collection. The information collected is used to determine if applicants are medically qualified to perform the duties associated with the class of airman medical certificate sought. The FAA intends to revise the information it is collecting via FAA form 8500-8, in part, to respond to recommendations made in an April 2014 General Services Administration report entitled “FAA Should Improve Usability of its Online Application System and Clarity of the Pilot's Medical Form.”

DATES: Comments should be submitted by August 21, 2015.

ADDRESSES: Send comments to the FAA at the following address: Ronda Thompson, Room 300, Federal Aviation Administration, ASP-110, 950 L'Enfant Plaza SW., Washington, DC 20024.

Public Comments Invited: You are asked to comment on any aspect of this information collection, including (a) Whether the proposed collection of information is necessary for FAA's performance; (b) the accuracy of the estimated burden; (c) ways for FAA to enhance the quality, utility and clarity of the information collection; and (d) ways that the burden could be minimized without reducing the quality of the collected information. The agency will summarize and/or include your comments in the request for OMB's clearance of this information collection.

The FAA is seeking comments only with regard to the burden associated with the information collection activity under OMB Control Number 2120-0034. As such, any comments received that cite this notice but are outside of the scope of the collection activity under OMB Control Number 2120-0034 will not be addressed.

FOR FURTHER INFORMATION CONTACT: Ronda Thompson at (202) 267-1416, or by email at: Ronda.Thompson@faa.gov.

SUPPLEMENTARY INFORMATION: OMB Control Number: 2120-0034.

Title: Medical Standards and Certification.

Form Numbers: FAA forms 8500-7, 8500-8, and 8500-14.

Type of Review: Revision of an existing information collection.

Background: The Secretary of Transportation collects this information under the authority of 49 U.S.C. 40113; 44701; 44510; 44702; 44703; 44709; 45303; and 80111. The airman medical certification program is implemented by Title 14 Code of Federal Regulations (CFR) parts 61 and 67 (14 CFR parts 61 and 67). The FAA determines if applicants are medically qualified to perform the duties associated with the class of airman medical certificate sought.

Respondents: Approximately 414,300 applicants for airman medical certificates.

Frequency: Information is collected on occasion.

Estimated Average Burden per Response: 1.5 hours.

Estimated Total Annual Burden: 598,950 hours.

Issued in Washington, DC, on June 16, 2015.
Ronda Thompson,
FAA Information Collection Clearance Officer, IT Enterprises Business Services Division, ASP-110.

[FR Doc. 2015-15267 Filed 6-19-15; 8:45 am]

BILLING CODE 4910-13-P